DEPARTMENT OF HOMELAND SECURITY

Coast Guard

33 CFR Part 117

[Docket No. USCG-2011-1053]

Drawbridge Operation Regulation; Old Brazos River, Freeport, Brazoria County, TX

AGENCY: Coast Guard, DHS.

ACTION: Notice of temporary deviation from regulations.

SUMMARY: The Commander, Eighth Coast Guard District, has issued a temporary deviation from the regulation governing the operation of the Union Pacific Railroad Swing Span Bridge across the Old Brazos River, mile 4.4, at Freeport, Brazoria County, Texas. This deviation allows the bridge to remain closed to navigation for four days to replace lift cables.

DATES: This deviation is effective from 6 a.m. December 16 through 6 p.m. December 19, 2011.

ADDRESSES: Documents mentioned in this preamble as being available in the docket are part of docket USCG-2011-1053 and are available online by going to http://www.regulations.gov, inserting USCG-2011-1053 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Jim Wetherington, Bridge Management Specialist, Eighth Coast Guard District, Bridge Administration Branch, telephone (504) 671-2128, email: james.r.wetherington@uscg.mil. If you have questions on viewing the docket, call Renee V. Wright, Program Manager, Docket Operations, telephone (202) 366-9826.

SUPPLEMENTARY INFORMATION: The Union Pacific Railroad Company has requested a temporary deviation from the published regulation for the Union Pacific Railroad Bridge across the Old Brazos River in 33 CFR 117.975 which states: The draw of the Union Pacific railroad bridge, mile 4.4 at Freeport, shall be maintained in the fully open position, except for the crossing of trains or for maintenance.

The requested deviation will allow the bridge to remain closed to marine traffic from 6 a.m. December 16 through 6 p.m. December 19, 2011. The clearance in the closed-to-navigation position is 10.67 feet above mean sea level (MSL).

This deviation will allow the lift span of the bridge to remain in the closed-to-navigation position in order for the cables to be replaced and re-tensioned. This work is necessary due to an ongoing bridge modification project, authorized by Coast Guard Bridge Permit Amendment P (7a-09-8) dated September 14, 2010. The project involves the replacement of the old swing span with the current vertical lift span.

Vessel traffic at the bridge site consists of commercial fishing vessels, commercial dive boats and recreational boats. There are no alternate routes. During the closure times, the process for tensioning the cables will allow the bridge to be able to open for emergencies and occasionally for the passage of vessels once the new cables are in place and being tensioned. Current waterway users above the bridge are aware of the closure and have not objected to this time period. Vessels that do not require an opening can pass at any time.

In accordance with 33 CFR 117.35(e), the drawbridge must return to its regular operating schedule immediately at the end of the designated time periods. This deviation from the operating regulations is authorized under 33 CFR 117.35.

Dated: November 21, 2011.
David M. Frank,
Bridge Administrator.

[FR Doc. 2011-31331 Filed 12-6-11; 8:45 am]

BILLING CODE 9110-04-P